DEPARTMENT OF AGRICULTURE

Agricultural Marketing Service

7 CFR Part 51

[Docket # AMS-FV-2006-0136; FV-06-303-C]

United States Standards for Grades of Potatoes

AGENCY: Agricultural Marketing Service, USDA.

ACTION: Correcting amendments.

SUMMARY: The Agricultural Marketing Service (AMS) published a final rule in the Federal Register on March 21, 2008 (FR Doc. 08-1058), revising the United States Standards of Grades of Potatoes. As published, the final regulations contain errors in §§ 51.1545, 51.1546, 51.1664, and 51.1565 that are misleading and are in need of clarification. This document corrects those errors.

DATES: Effective Date: November 21, 2008.

FOR FURTHER INFORMATION CONTACT: Vincent J. Fusaro, Standardization Section, Fresh Products Branch, Fruit and Vegetable Programs (202) 720-2185.

SUPPLEMENTARY INFORMATION: This document provides correcting amendments to the U.S. Grade Standards for Grades of Potatoes, found respectively at 7 CFR part 51.

List of Subjects in 7 CFR Part 51

Agricultural commodities, Food grades and standards, Fruits, Nuts, Reporting and recordkeeping requirements, Trees, Vegetables.

PART 51—[CORRECTED]

1. The authority citation for part 51 continues to read as follows:

Authority: 7 U.S.C. 1621-1627.

3. In § 51.1545, Table 1 is revised to read as follows:

§ 51.1545 Size.

* * * * *

Table 1
Size designation | Minimum diameter ¹ or weight: Inches | Minimum diameter ¹ or weight: Ounces | Maximum diameter ¹ or weight: Inches | Maximum diameter ¹ or weight: Ounces
Creamer | ¾ | (³) | 1⅝ | (³)
Chef | 2¾ | 8 | 4½ | 28
Size A² | 1⅞ | (³) | (³) | (³)
Size B | 1½ | (³) | 2¼ | (³)
Small | 1¾ | (³) | 2½ | 6
Medium | 2¼ | 5 | 3¼ | 10
Large | 3 | 10 | 4½ | 28
¹ Diameter means the greatest dimension at right angles to the longitudinal axis, without regard to the position of the stem end.
² In addition to the minimum size specified, a lot of potatoes designated as Size A shall contain at least 40 percent of potatoes which are 2½ inches in diameter or larger or 6 ounces in weight or larger.
³ No requirement.

* * * * *

3. In § 51.1546, paragraph (a) is revised to read as follows:

§ 51.1546 Tolerances.

* * * * *

(a) For defects—(1) U.S. No. 1. (i) At Shipping Point. A total of 8 percent for potatoes in any lot which fail to meet the requirements for the grade: Provided, that included in this tolerance not more than the following percentages shall be allowed for the defects listed:

(A) 5 percent for external defects;

(B) 5 percent for internal defects;

(C) Including therein not more than 1 percent for potatoes which are frozen or affected by soft rot or wet breakdown. See § 51.1547.

(ii) En route or at Destination. A total of 10 percent for potatoes in any lot which fail to meet the requirements for the grade: Provided, that included in this tolerance not more than the following percentages shall be allowed for the defects listed:

(A) 7 percent for external defects;

(B) 7 percent for internal defects;

(C) Including therein not more than 2 percent for potatoes which are frozen or affected by soft rot or wet breakdown. See § 51.1547.

(2) U.S. Commercial. A total of 20 percent for potatoes in any lot which fail to meet the requirements for the grade: Provided, that included in this tolerance not more than the following percentages shall be allowed for the defects listed:

(i) 10 percent for potatoes which fail to meet the requirements for U.S. No. 2 grade, including therein not more than:

(ii) 6 percent for external defects;

(iii) 6 percent for internal defects; or,

(iv) Including therein not more than 1 percent for potatoes which are frozen or affected by soft rot or wet breakdown. See § 51.1547.

(3) U.S. No. 2. (i) At Shipping Point: A total of 10 percent for potatoes in any lot which fail to meet the requirements for the grade: Provided, that included in this tolerance not more than the following percentages shall be allowed for the defects listed:

(A) 6 percent for external defects;

(B) 6 percent for internal defects;

(C) Including therein not more than 1 percent for potatoes which are frozen or affected by soft rot or wet breakdown. See § 51.1547.

(ii) En route or at Destination: A total of 12 percent for potatoes in any lot which fail to meet the requirements for the grade: Provided, that included in this tolerance not more than the following percentages shall be allowed for the defects listed:

(A) 8 percent for external defects;

(B) 8 percent for internal defects;

(C) Including therein not more than 2 percent for potatoes which are frozen or affected by soft rot or wet breakdown. See § 51.1547.

* * * * *

4. In § 51.1564, Table III, the entries “Bruises (Not including pressure bruise and sunken discolored areas)”; “Growth Cracks”; and “Sprouts” are revised to read as follows:

§ 51.1564 External Defects.

* * * * *

Table III—External Defects
* * * * * * *
Defect | Damage | Serious
* * * * * * *
Bruises (Not including pressure bruise and sunken discolored areas) | When removal causes a loss of more than 5 percent of the total weight of the potato or when the area affected is more than 5 percent of the surface in the aggregate (i.e., ¾ inch on a 6 oz. potato). Correspondingly lesser or greater areas in smaller or larger areas | When the removal causes a loss of more than 10 percent of the total weight of the potato or when the area affected is more than 10 percent of the surface in the aggregate (i.e., 1¼ inches on a 2½ inch or 6 oz. potato). Correspondingly lesser or greater areas in smaller or larger potatoes.
* * * * * * *
Growth Cracks | When the growth crack(s) affects more than ½ the length of the potato in the aggregate on round varieties or more than ⅓ the length in the aggregate on long varieties; or, when the depth is greater than that as outlined in Table V. (See Table V.) | When the growth crack(s) affects more than ¾ the length of the potato in the aggregate or when the depth is greater than that as outlined in Table V. (See Table V.).
* * * * * * *
Sprouts | When more than 5 percent of the potatoes in a lot have sprouts in clusters or any individual sprout more than ¼ inch in length at shipping point and ½ inch in length at destination | When more than 10 percent of the potatoes in a lot have sprouts in clusters or any individual sprout more than ½ inch in length at shipping point and 1 inch in length at destination.
* * * * * * *

* * * * *

5. In § 51.1565, the heading of Table I is revised and the entry “Light Brown Discoloration (Brown Center)” is revised to read as follows:

§ 51.1565 [Amended]

Table VII—Internal Defects
* * * * * * *
Defects | Damage: Maximum allowed | Serious: Maximum allowed
* * * * * * *
Light Brown Discoloration (Brown Center) | Area affected not to exceed that of a circle ½ inch in diameter in a potato 2½ inches in diameter or 6 ounces in weight.¹ | Area affected not to exceed that of a circle ¾ inch in diameter in a potato 2½ inches in diameter or 6 ounces in weight.¹
* * * * * *

Authority: 7 U.S.C. 1621-1627.

Dated: November 12, 2008.
David R. Shipman,
Administrator, Agricultural Marketing Service.

[FR Doc. E8-27288 Filed 11-20-08; 8:45 am]

BILLING CODE 3410-02-P